DEPARTMENT OF HEALTH AND HUMAN SERVICES

Indian Health Service

Office of Urban Indian Health Programs; Announcement Type: Title V HIV/AIDS Competing Continuation Grants

Funding Opportunity Number: HHS-2009-IHS-UIHP-0002.

Catalog of Federal Domestic Assistance Number: 93.193.

Key Dates

Application Deadline Date: July 1, 2009.

Review Date: July 15, 2009.

Earliest Anticipated Start Date: September 1, 2009.

I. Funding Opportunity Description

The Indian Health Service (IHS), Office of Urban Indian Health Programs (OUIHP) announces an open competition for the 4-in-1 Title V grants responding to an Office of HIV/AIDS Policy (OHAP), Minority AIDS (Acquired Immunodeficiency Syndrome) Initiative (MAI). This program is authorized under the authority of the Snyder Act, Public Law 67-85 and 25 U.S.C. 1652, 1653 of the Indian Health Care Improvement Act, Public Law 94-437, as amended. This program is described at 93.193 in the Catalog of Federal Domestic Assistance (CFDA).

This open competition seeks to expand OUIHP's existing Title V grants to increase the number of American Indian/Alaska Natives (AI/AN) with awareness of his/her HIV status. This will provide routine and/or rapid HIV screening, prevention, pre- and post-test counseling (when appropriate). Enhancement of urban Indian health program HIV/AIDS activities is necessary to reduce the incidence of HIV/AIDS in the urban Indian health communities by increasing access to HIV related services, reducing stigma, and making testing routine.

These continuation grants will be used to enhance HIV testing, including rapid testing and/or standard HIV antibody testing and to provide a more focused effort to address HIV/AIDS prevention, targeting some of the largest urban Indian populations in the United States. The grantees will attempt to provide routine HIV screening for adults as per 2006 Centers for Disease Control and Prevention (CDC) guidelines, pre- and post-test counseling (when appropriate). These grants will be used to identify best practices to enhance HIV testing, including rapid testing and/or conventional HIV antibody testing, and to provide a more focused effort to address HIV/AIDS prevention in AI/AN populations in the United States.

The nature of these projects will require collaboration with the OUIHP to: (1) Coordinate activities with the IHS National HIV Program; (2) participate in projects in other operating divisions of the Department of Health and Human Services (HHS) such as the CDC, Substance Abuse and Mental Health Services Administration, Health Resource and Services Administration and the Office of HIV/AIDS Policy; and (3) submit and share anonymous, non-identifiable data on HIV/AIDS testing, treatment, and education.

These grants are also intended to encourage development of sustainable, routine HIV screening programs in urban facilities that are aligned with 2006 CDC HIV Screening guidelines (http://www.cdc.gov/mmwr/preview/mmwrhtml/rr5514a1.htm). Key features include streamlined consent and counseling procedures (verbal consent, opt-out), a clear HIV screening policy, identifying and implementing any necessary staff training, community awareness, and a clear followup protocol for HIV positive results including linkages to care. Grantees may choose to bundle HIV tests with STD screening.

II. Award Information

Type of Award: Title V Continuation Grants.

Estimated Funds Available: The total amount identified for Fiscal Year (FY) 2009 is ten awards totaling $200,000. Individual awards must include one project evaluation and provide administrative support of the project. All future awards under this announcement are subject to the availability of funds. Hence, the agency has no obligation to award additional funding beyond the first year.

Anticipated Number of Awards: Ten grant awards will be made under the program.

Project Period: September 1, 2009-August 31, 2012.

Award Amount: $200,000.

A. Requirements of Recipient Activities

In FY 2009, each grantee's attempted goal shall include screening as many individuals as possible; however, each funded program's attempted goal will be to increase screening to a minimum of 300 AI/AN tested per program funded (adjusted due to variations in size of facility and user population), for a total of 4,500 AI/AN tested. This reflects an MAI requirement to maintain the actual cost per MAI Fund HIV testing client below the medical care inflation rate. This does not include counts of re-testing individuals in the same year. Each program shall also collect evidence, as part of the testing process, to document lessons learned, best practices, and barriers to increased routine HIV screening within this population.

III. Eligibility Information

1. Eligible Applicants: Urban Indian organizations, as defined by 25 U.S.C. 1603(h), limited to urban Indian organizations which meet the following criteria:

• Received State certification to conduct HIV rapid testing (where needed);

• Health professionals and staff have been trained in the HIV/AIDS screening tools, education, prevention, counseling, and other interventions for AI/ANs;

• Developed programs to address community and group support to sustain risk-reduction skills;

• Implemented HIV/AIDS quality assurance and improvement programs; and

• Must provide proof of non-profit status with the application.

2. Cost Sharing or Matching—This program does not require matching funds or cost sharing.

3. If the application budget exceeds the award amount, it will not be considered for review.

IV. Application and Submission Information

1. Applicant package may be found in Grants.gov (http://www.grants.gov) or at: http://www.ihs.gov/NonMedicalPrograms/gogp/gogp_funding.asp.

Questions regarding the electronic application process may be directed to Michelle G. Bulls at (301) 443-6290.

2. Content and Form of Application Submission:

• Be single spaced.

• Be typewritten.

• Have consecutively numbered pages.

• Use black type not smaller than 12 characters per one inch.

• Contain a narrative that does not exceed ten typed pages that includes the other submission requirements below. The ten page narrative does not include the work plan, standard forms, table of contents, budget, budget justifications, narratives, and/or other appendix items.

Public Policy Requirements: All Federal-wide public policies apply to IHS grants with the exception of the Lobbying and Discrimination public policy.

3. Submission Dates and Times: The application from each urban Indian organization must be submitted electronically through Grants.gov by 12 midnight Eastern Standard Time (EST) on July 1, 2009.

If technical challenges arise and the urban Indian organizations are unable to successfully complete the electronic application process, each organization must contact Michelle G. Bulls, Grants Policy Staff (GPS) fifteen days prior to the application deadline and advise of the difficulties that they are experiencing. Each organization must obtain prior approval, in writing (e-mails are acceptable), from Ms. Bulls allowing the paper submission. If submission of a paper application is requested and approved, the original and two copies may be sent to the appropriate grants contact that is listed in Section IV.1 above. Applications not submitted through Grants.gov, without an approved waiver, may be returned to the organizations without review or consideration.

A late application will be returned to the organization without review or consideration.

4. Intergovernmental Review: Executive Order 12372 requiring intergovernmental review is not applicable to this program.

5. Funding Restrictions:

A. Pre-award costs are allowable pending prior approval from the awarding agency. However, in accordance with 45 CFR part 74, all pre-award costs are incurred at the recipient's risk. The awarding office is under no obligation to reimburse such costs if for any reason any of the urban Indian organizations do not receive an award or if the award to the recipient is less than anticipated.

B. The available funds are inclusive of direct and appropriate indirect costs.

C. Only one competing continuation award will be issued to each organization.

D. IHS will acknowledge receipt of the application.

6. Other Submission Requirements:

Electronic Submission—Each urban Indian organization must submit through Grants.gov. However, should any technical challenges arise regarding the submission, please contact Grants.gov Customer Support at 1-800-518-4726 or support@grants.gov. The Contact Center hours of operation are Monday-Friday from 7 a.m. to 9 p.m. EST. If you require additional assistance, please call (301) 443-6290 and identify the need for assistance regarding your Grants.gov application. Your call will be transferred to the appropriate grants staff member. Each organization must seek assistance at least fifteen days prior to the application deadline. If each organization doesn't adhere to the timelines for Central Contractor Registry (CCR), Grants.gov registration and request timely assistance with technical issues, paper application submission may not be granted.

To submit an application electronically, please use the Grants.gov Web site. Download a copy of the application package on the Grants.gov Web site, complete it offline and then upload and submit the application via the Grants.gov site. You may not e-mail an electronic copy of a grant application to IHS.

Please be reminded of the following:

• Under the new IHS application submission requirements, paper applications are not the preferred method. However, if any urban Indian organization has technical problems submitting the application on-line, please contact Grants.gov Customer Support at: http://www.grants.gov/CustomerSupport.

• Upon contacting Grants.gov, obtain a Grants.gov tracking number as proof of contact. The tracking number is helpful if there are technical issues that cannot be resolved and a waiver request from Grants Policy must be obtained. If any of the organizations are still unable to successfully submit the application online, please contact Michelle G. Bulls, GPS, at (301) 443-6290 at least fifteen days prior to the application deadline to advise of the difficulties you have experienced.

• If it is determined that a formal waiver is necessary, each organization must submit a request, in writing (e-mails are acceptable), to Michelle.Bulls@ihs.gov providing a justification for the need to deviate from the standard electronic submission process. Upon receipt of approval, a hard-copy application package must be downloaded from Grants.gov and sent directly to the Division of Grants Operations (DGO), 801 Thompson Avenue, TMP 360, Rockville, MD 20852 by July 1, 2009.

• Upon entering the Grants.gov Web site, there is information available that outlines the requirements to each urban Indian organization regarding electronic submission of application and hours of operation. We strongly encourage each organization to not wait until the deadline date to begin the application process as the registration process for CCR and Grants.gov could take up to fifteen working days.

• To use Grants.gov, each urban Indian organization must have a Data Universal Numbering System (DUNS) Number and register in the CCR. Each organization should allow a minimum of ten working days to complete CCR registration. See below on how to apply.

• Each organization must submit all documents electronically, including all information typically included on the SF-424 and all necessary assurances and certifications.

• Please use the optional attachment feature in Grants.gov to attach additional documentation that may be requested by IHS.

• Each organization must comply with any page limitation requirements described in the program announcement.

• After you electronically submit your application, you will receive an automatic acknowledgment from Grants.gov that contains a Grants.gov tracking number. The DGO will retrieve your application from Grants.gov. The DGO will notify each organization that the application has been received.

• You may access the electronic application for this program on Grants.gov.

• You may search for the downloadable application package using either the CFDA number or the Funding Opportunity Number. Both numbers are identified in the heading of this announcement.

• To receive an application package, each urban Indian organization must provide the Funding Opportunity Number: HHS-2009-IHS-UIHP-0002.

E-mail applications will not be accepted under this announcement.

DUNS Number

Applicants are required to have a DUNS number to apply for a grant or cooperative agreement from the Federal Government. The DUNS number is a nine-digit identification number, which uniquely identifies business entities. Obtaining a DUNS number is easy and there is no charge. To obtain a DUNS number, access http://www.dunandbradstreet.com or call 1-866-705-5711. Interested parties may wish to obtain their DUNS number by phone to expedite the process.

Applications submitted electronically must also be registered with the CCR. A DUNS number is required before CCR registration can be completed. Many organizations may already have a DUNS number. Please use the number listed above to investigate whether or not your organization has a DUNS number. Registration with the CCR is free of charge.

Applicants may register by calling 1-888-227-2423. Please review and complete the CCR “Registration Worksheet” located on http://www.ccr.gov.

More detailed information regarding these registration processes can be found at Grants.gov.

V. Application Review Information

1. Criteria

The instructions for preparing the application narrative also constitute the evaluation criteria for reviewing and scoring the application. Weights assigned to each section are noted in parentheses. The narrative should include all prior years of activity; information for multi-year projects should be included as an appendix (see E. “Categorical Budget and Budget Justification” at the end of this section for more information). The narrative should be written in a manner that is clear to outside reviewers unfamiliar with prior related activities of the urban Indian organization. It should be well organized, succinct, and contain all information necessary for reviewers to understand the project fully.

A. Understanding of the Need and Necessary Capacity (15 Points)

1. Understanding of the Problem

a. Define the project target population, identify their unique characteristics, and describe the impact of HIV on the population.

b. Describe the gaps/barriers in HIV testing for the population.

c. Describe the unique cultural or sociological barriers of the target population to adequate access for the described services.

2. Facility Capability

a. Briefly describe your clinic programs and services and how this initiative will assist to commence, compliment and/or expand existing efforts.

b. Describe your clinic's ability to conduct this initiative through:

• Your clinic's present resources.

• Collaboration with other providers.

• Partnerships established to accept referrals for counseling, testing, and referral and confirmatory blood tests and/or social services for individuals who test HIV positive.

• Linkages to treatment and care: partnerships established to refer out of your clinic for specialized treatment, care, confirmatory testing (if applicable) and counseling services.

B. Work Plan (40 Points)

1. Project Goal and Objectives

Address all of the following program goals and objectives of the project. The objectives must be specific as well as quantitatively and qualitatively measurable to ensure achievement of goal(s).

• Implementation Plan

a. Identify the proposed program activities and explain how these activities will increase and sustain HIV screening.

b. Describe Policy and Procedure changes anticipated for implementation that include:

(1) Support of the 2006 CDC Revised HIV Testing Recommendations.

(2) Community awareness.

(3) Age ranges of persons to be screened.

(4) Bundling of HIV testing with STD tests.

(5) Type of HIV Screen/Test (Rapid, Conventional, Western Blot) and who will perform test (in-house, send-out).

c. Provide a clear timeline with quarterly milestones for project implementation.

d. Certify that the program identified and agreed to follow the State regulations for HIV testing in their State and how the clinic will follow their State reporting guidelines for seropositive results.

e. Describe how individuals will be selected for testing to identify selection criteria and which group(s)—if any—will you be able, via State regulations, to offer testing in an opt-out format.

f. Describe how the program will ensure that clients receive their test results, particularly clients who test positive.

g. Describe how the program will ensure that individuals with initial HIV-positive test results will receive confirmatory tests. If you do not provide confirmatory HIV testing, you must provide a letter of intent or Memorandum of Understanding with an external laboratory documenting the process through which initial HIV-positive test results will be confirmed.

h. Describe the program strategies to linking potential seropositive patients to care.

i. Describe the program quality assurance strategies.

j. Describe how the program will train, support and retain staff providing counseling and testing.

k. Describe how the program will ensure client confidentiality.

l. Describe how the program will ensure that its services are culturally fluent and relevant.

m. Describe how the program will attempt to streamline procedures so as to reduce the overall cost per test administered.

C. Project Evaluation (20 Points)

1. Evaluation Plan

The grantee shall provide a plan for monitoring and evaluating the HIV rapid test and/or standard HIV antibody test.

2. Reporting Requirements

The following quantitative and qualitative measures shall be addressed:

• Required Quantitative Indicators (Quantitative)

a. Number of tests performed and number of test refusals.

b. Number of clients learning of their serostatus for the first time via this testing initiative (unique patients, non-repeated tests).

c. Number of reactive tests and confirmed seropositive (actual and proportion).

d. Number of clients linked to care/treatment or referrals for prevention counseling.

e. Number of individuals receiving their confirmatory test results.

• Required Qualitative Information.

a. Measures in place to protect confidentiality.

b. Identify barriers of implementation as well as lessons learned for best practices to share with other IHS/Urban or tribal entities.

c. Sustainability plan and measures of ongoing testing in future years, after grant money has been spent.

• Other quantitative indicators may be collected to improve clinic processes and add to information reported; however, they are not required.

a. Number of clients who refused due to prior knowledge of status.

b. Number of rapid versus standard antibody test.

c. Number of false negatives and/or positives after confirmatory testing.

• Develop a plan for obtaining knowledge, attitudes, and behavior data pending official approval of patient survey.

D. Organizational Capabilities and Qualifications (10 Points)

This section outlines the broader capacity of the organization to complete the project outlined in the work plan. It includes the identification of personnel responsible for completing tasks and the chain of responsibility for successful completion of the project outlined in the work plan.

1. Describe the organizational structure.

2. Describe the ability of the organization to manage the proposed project. Include information regarding similarly sized projects in scope and financial assistance as well as other grants and projects successfully completed.

3. Describe what equipment (i.e., phone, Web sites, etc.) and facility space (i.e., office space) will be available for use during the proposed project. Include information about any equipment not currently available that will be purchased throughout the agreement.

4. List key personnel who will work on the project.

• Identify existing personnel and new program staff to be hired.

• In the appendix, include position descriptions and resumes for all key personnel. Position descriptions should clearly describe each position and duties indicating desired qualifications, experience, and requirements related to the proposed project and how they will be supervised. Resumes must indicate that the proposed staff member is qualified to carry out the proposed project activities and who will determine if the work of a contractor is acceptable.

• Note who will be writing the progress reports.

• If a position is to be filled, indicate that information on the proposed position description

• If the project requires additional personnel beyond those covered by the supplemental grant, (i.e., Information Technology support, volunteers, interviewers, etc.), note these and address how these positions will be filled and, if funds are required, and the source of these funds.

• If personnel are to be only partially funded by this supplemental grant, indicate the percentage of time to be allocated to this project and identify the resources used to fund the remainder of the individual's salary.

E. Categorical Budget and Budget Justification (15 Points)

This section should provide a clear estimate of the project program costs and justification for expenses for the entire grant period. The budget and budget justification should be consistent with the tasks identified in the work plan. The budget focus should be on routinizing and sustaining HIV testing services as well as reducing the cost per person tested.

1. Categorical budget (Form SF 424A, Budget Information Non-Construction Programs) completing each of the budget periods requested.

2. Narrative justification for all costs, explaining why each line item is necessary or relevant to the proposed project. Include sufficient details to facilitate the determination of cost allowability.

3. Budget justification should include a brief program narrative for the second and third years.

4. If indirect costs are claimed, indicate and apply the current negotiated rate to the budget. Include a copy of the rate agreement in the appendix.

2. Review and Selection Process

In addition to the above criteria/requirements, the application will be considered according to the following:

A. The Submission Deadline: July 1, 2009

The application submitted in advance of or by the deadline and verified by the postmark will undergo a preliminary review to determine that:

• The applicant is eligible in accordance with this grant announcement.

• The application is not a duplication of a previously funded project.

• The application narrative, forms, and materials submitted meet the requirements of the announcement allowing the review panel to undertake an in-depth evaluation; otherwise, it may be returned.

B. The Continuation Review Date is July 15, 2009

Continuation applications that are complete, responsive, and conform to this program announcement will be reviewed for merit. Prior to review, the application will be screened to determine that programs proposed are those which the IHS has the authority to provide, either directly or through funding agreement, and that those programs are designed for the benefit of IHS beneficiaries. If an urban Indian organization does not meet these requirements, the application will not be reviewed. The application will be evaluated and rated on the basis of the evaluation criteria listed in Section V. 1. The criteria are used to evaluate the quality of a proposed project and determine the likelihood of success.

3. Anticipated Announcement and Award Dates

Anticipated announcement date is August 1, 2009 with an Award Date of September 1, 2009.

VI. Award Administration Information

1. Award Notices

The Notice of Award (NoA) will be initiated by the DGO and will be mailed via postal mail to the urban Indian organization. The NoA will be signed by the Grants Management Officer and this is the authorizing document under which funds are dispersed. The NoA, the legally binding document, will serve as the official notification of the grant award and will reflect the amount of Federal funds awarded for the purpose of the grant, the terms and conditions of the award, the effective date of the award, and the budget/project period.

2. Administrative Requirements

Grants are administered in accordance with the following documents:

• This Program Announcement.

• 45 CFR Part 74, “Uniform Administrative Requirements for Awards to Institutions of Higher Education, Hospitals, Other Non-Profit Organizations, and Commercial Organizations.”

• Grants Policy Guidance: HHS Grants Policy Statement, January 2007.

• “Non-Profit Organizations” (Title 2 Part 230).

• Audit Requirements: OMB Circular A-133, “Audits of States, Local Governments, and Non-Profit Organizations.”

3. Indirect Costs

This section applies to indirect costs in accordance with HHS Grants Policy Statement, Part II-27. The IHS requires applicants to have a current indirect cost rate agreement in place prior to award. The rate agreement must be prepared in accordance with the applicable cost principles and guidance as provided by the cognizant agency or office. A current rate means the rate covering the applicable activities and the award budget period. If the current rate is not on file with the awarding office, the award shall include funds for reimbursement of indirect costs. However, the indirect costs portion will remain restricted until the current rate is provided to the DGO.

If an urban Indian organization has questions regarding the indirect costs policy, please contact the DGO at (301) 443-5204.

4. Reporting

A. Progress Report. Program progress reports on number of tests performed and milestones are required quarterly by the OUIHP in order to satisfy quarterly reports due to funding source at MAI. These reports will include a brief comparison of actual accomplishments to the goals established for the period, reasons for unmet milestones (if applicable), and other pertinent information as required.

B. A Final Assessment and Evaluation report must be submitted within 90 days of expiration of the budget/project period.

C. Financial Status Report. Semi-annual financial status reports must be submitted within 30 days of the end of the half year. Final financial status reports are due within 90 days of expiration of the budget period. Standard Form 269 (long form) will be used for financial reporting.

D. Participation in a minimum of two teleconferences. Teleconferences will be required semi-annually (unless further followup is needed) for Technical Assistance and information to be provided and progress to be shared among grantees with the OUIHP and National HIV Program Consultant.

Failure to submit required reports within the time allowed may result in suspension or termination of an active agreement, withholding of additional awards for the project, or other enforcement actions such as withholding of payments or converting to the reimbursement method of payment. Continued failure to submit required reports may result in one or both of the following: (1) The imposition of special award provisions; and (2) the non-funding or non-award of other eligible projects or activities. This applies whether the delinquency is attributable to the failure of the organization or the individual responsible for preparation of the reports. Telecommunication for the hearing impaired is available at: TTY (301) 443-6394.

VII. Agency Contacts

For program-related and general information regarding this announcement: Danielle Steward, Health Systems Specialist, Office of Urban Indian Health Programs, 801 Thompson Avenue, Suite 200, Rockville, MD 20852. (301) 443-4680 or danielle.steward@ihs.gov.

For specific grant-related and business management information: Denise Clark, Senior Grants Management Specialist, 801 Thompson Avenue, TMP Suite 360, Rockville, MD 20852. (301) 443-5204 or denise.clark@ihs.gov.

Dated: May 20, 2009.
Randy Grinnell,
Deputy Director for Management Operations, Indian Health Service.

[FR Doc. E9-12318 Filed 5-27-09; 8:45 am]

BILLING CODE 4165-16-P